DEPARTMENT OF VETERANS AFFAIRS

[OMB Control No. 2900-New (VA Form 10-0512)]

Agency Information Collection: Emergency Submission for OMB Review; Comment Request

AGENCY: Veterans Health Administration, Department of Veterans Affairs.

ACTION: Notice.

SUMMARY: In compliance with the Paperwork Reduction Act (PRA) of 1995 (44 U.S.C., 3501-3521), this notice announces that the United States Department of Veterans Affairs (VA), will submit to the Office of Management and Budget (OMB) the following emergency proposal for the collection of information under the provisions of the Paperwork Reduction Act (44 U.S.C. 3507(j)(1)). An emergency focus group clearance is being requested in regards to the Veterans' Suicide Prevention Program.

DATES: Comments must be submitted on or before January 26, 2011.

For Further Information or a Copy of the Submission Contact: Denise McLamb, Enterprise Records Service (005R1B), Department of Veterans Affairs, 810 Vermont Avenue, NW., Washington, DC 20420, (202) 461-7485, FAX (202) 461-0966 or e-mail. Please refer to “OMB Control No. 2900-New (VA Form 10-0512).

Send comments and recommendations concerning any aspect of the information collection to VA's OMB Desk Officer, OMB Human Resources and Housing Branch, New Executive Office Building, Room 10235, Washington, DC 20503 (202) 395-7316 or FAX (202) 395-6974. Please refer to “2900-New (VA Form 10-0512).

SUPPLEMENTARY INFORMATION: Title: Veterans' Suicide Prevention Program.

OMB Control Number: 2900-New (VA Form 10-0512).

Type of Review: New collection.

Abstract: VA is taking decisive action to prevent Veteran death by suicide. The Department will proactively partner with Veterans and their families; federal, state, local, and tribal governments; community organizations; and other stakeholders to reach out, engender trust, reduce stigma, and encourage our Nation's heroes to apply for the benefits and services they have earned. VA must also reach out to Veterans who are experiencing mental health crises and provide confident and trustworthy counseling.

To be successful, the Department must take systematic steps when offering assistance with programs, services, and benefits. Outreach activities must be research-based, data-driven, audience targeted, results-oriented, and governed by the basic tenets of effective communication and strategic outreach.

To prevent suicide and save one life at a time, 18 lives per day, the Department must act now and reach out to these populations and their influencers; however, to truly make a difference, it can't just reach out, VA must employ sound and proven outreach strategies which are evidence-based and include messaging which has been tested and focused for specific audiences. To achieve these steps, the Department will conduct focus groups with Veterans and their families, community organizations, and other important and influential stakeholders. Therefore, the Veterans Health Administration respectfully requests an emergency OMB clearance to perform focus group activities and collect information to support outreach efforts in reaching this critical audience and the people who they trust.

Affected Public: Individuals and households.

Estimated Total Annual Burden: 150 hours.

Estimated Average Burden per Respondent: 90 minutes.

Frequency of Response: One time.

Estimated Number of Respondents: 100.

Dated: January 7, 2011.
By direction of the Secretary.
Denise McLamb,
Program Analyst Director, Enterprise Records Service.

[FR Doc. 2011-482 Filed 1-11-11; 8:45 am]

BILLING CODE 8320-01-P